MARINE MAMMAL COMMISSION

Sunshine Act Notice: Correction

TIME AND DATE: The Marine Mammal Commission published a notice in the Federal Register on 11 April 2014 announcing a meeting of the Commission. This document contains a correction to that notice, regarding the dates of the meeting. The Marine Mammal Commission and its Committee of Scientific Advisors on Marine Mammals will meet on Tuesday, 6 May 2014, from 9:00 a.m. to 5:30 p.m.; Wednesday, 7 May 2014, from 9:00 a.m. to 5:30 p.m.; Thursday, 8 May 2014, from 9:30 a.m. to 5:00 p.m. The Commission and the Committee also will meet in executive session on Monday, 5 May 2014, from 2:00 to 6:00 p.m. All other portions of the 11 April notice remain unchanged.

CONTACT PERSON FOR MORE INFORMATION: Michael L. Gosliner, General Counsel, Marine Mammal Commission, 4340 East-West Highway, Room 700, Bethesda, MD 20814; (301) 504-0087; email: mgosliner@mmc.gov.

Dated: April 14, 2014.
Rebecca J. Lent,
Executive Director.

[FR Doc. 2014-08817 Filed 4-15-14; 11:15 am]

BILLING CODE 6820-31-P